SMALL BUSINESS ADMINISTRATION

[Disaster Declaration # 11150]

Iowa Disaster # IA-00013

AGENCY: U.S. Small Business Administration.

ACTION: Notice.

SUMMARY: This is a Notice of the Presidential declaration of a major disaster for Public Assistance Only for the State of IOWA (FEMA-1737-DR), dated 01/04/2008.

Incident: Severe Winter Storm.

Incident Period: 12/10/2007 through 12/11/2007.

EFFECTIVE DATE: 01/04/2008.

Physical Loan Application Deadline Date: 03/04/2008.

ADDRESSES: Submit completed loan applications to U.S. Small Business Administration, Processing and Disbursement Center, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration on 01/04/2008, Private Non-Profit organizations that provide essential services of a governmental nature may file disaster loan applications at the address listed above or other locally announced locations.

The following areas have been determined to be adversely affected by the disaster:

Primary Counties:

Adair, Adams, Appanoose, Cedar, Clarke, Clinton, Davis, Decatur, Fremont, Iowa, Jefferson, Johnson, Jones, Keokuk, Linn, Lucas, Madison, Mahaska, Marion, Monroe, Montgomery, Page, Ringgold, Taylor, Union, Van Buren, Wapello, Warren, Washington, Wayne.

The Interest Rates are:

| Percent
Other (Including Non-Profit Organizations) With Credit Available Elsewhere | 5.250
Businesses and Non-Profit Organizations Without Credit Available Elsewhere | 4.000
The number assigned to this disaster for physical damage is 11150

(Catalog of Federal Domestic Assistance Number 59008)

Herbert L. Mitchell,
Associate Administrator for Disaster Assistance.

[FR Doc. E8-554 Filed 1-14-08; 8:45 am]

BILLING CODE 8025-01-P